DEPARTMENT OF HOUSING AND URBAN DEVELOPMENT

[Docket No. FR-5683-N-36]

Notice of Submission of Proposed Information Collection to OMB Continuum of Care Homeless Assistance Grant Application-Technical Submission

AGENCY: Office of the Chief Information Officer, HUD.

ACTION: Notice.

SUMMARY: The proposed information collection requirement described below has been submitted to the Office of Management and Budget (OMB) for review, as required by the Paperwork Reduction Act. HUD is soliciting public comments on the subject proposal.

DATES: Comments Due Date: June 12, 2013.

ADDRESSES: Interested persons are invited to submit comments regarding this proposal. Comments should refer to the proposal by name and/or OMB approval Number (2506-0183) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the HUD has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Continuum of Care Homeless Assistance Grant Application-Technical Submission.

OMB Approval Number: 2506-0183.

Form Numbers: HUD 40090-3B, HUD 40090-3A.

Description of the need for the information and proposed use: This submission is to request a reinstatement with revisions of an expired information collection for reporting burden associated with the Technical Submission phase of the Continuum of Care (CoC) Program Application. This submission is limited to the Technical Submission process under the CoC Program interim rule, formerly under the Supportive Housing Program and the Shelter Plus Care Program and changed to match the new program name created through the HEARTH Act. Applicants who are successful in the Continuum of Care Program Homeless Assistance Grant competition are required to submit more detailed technical information before grant agreement. The information to be collected will be used to ensure that technical requirements are met prior to the execution of a grant agreement. The technical requirements relate to a more extensive description of the budgets for supportive services and operations, as well as acquisition, rehabilitation, new construction, rental assistance, leasing, and sources of financing documentation. HUD will use this detailed information to determine if a project is financially feasible and whether all proposed activities are eligible.

All information collected is used to carefully consider conditional applicants for funding. If HUD collects less information, or collected it less frequently, the Department could not make a final determination concerning the eligibility of applicants for grant funds and conditional applicants would not be eligible to sign grant agreements and receive funding. To see the regulations for the new CoC Program and applicable supplementary documents, visit HUD's Homeless Resource Exchange CoC page at http://www.hudhre.info/coc/. The statutory provisions and the implementing interim rule (also found at 24 CFR part 587) that govern the program require the information provided by the Technical Submission.

Estimation of the total number of hours needed to prepare the information collection including number of respondents, frequency of response, and hours of response: Once a project is conditionally awarded, all applicants with new projects must complete the appropriate Technical Submission forms in e-snaps to receive funding. Each type of project will require a unique set of forms to meet compliance, and so the estimates below represent an average of applicants that have several forms to complete. We are anticipating a maximum of 750 responses this year, with each respondent completing only 1 technical submission at 8 hours per response for a total of 6,000 hours. While much of the content remains the same as in the previous collection, we have estimated that the move to an electronic collection will save a minimum average of 1 hour per response, for a total savings of 750 hours.

Status: Revision of a currently approved collection.

Authority: Section 3507 of the Paperwork Reduction Act of 1995, 44 U.S.C. 35, as amended.

Dated: May 7, 2013.
Colette Pollard,
Department Reports Management Officer, Office of the Chief Information Officer.

[FR Doc. 2013-11291 Filed 5-10-13; 8:45 am]

BILLING CODE 4210-67-P